DEPARTMENT OF LABOR

Employment and Training Administration

Workforce Investment Act—Grants for Workforce Investment Boards

Announcement Type: New: Notice of solicitation for grant applications.

Funding Opportunity Number: SGA/DFA PY 04-04.

Catalog of Federal Domestic Assistance (CFDA) Number: 17.257.

Key Dates: Deadline for Application Receipt: May 4, 2005.

SUMMARY: The U.S. Department of Labor (USDOL), Employment and Training Administration (ETA), announces the availability up to $5 million for grants to eligible Workforce Investment Boards (WIBs) that have demonstrated successfully the ability to form working partnerships with grassroots faith-based and community organizations (FBCOs). Grassroots FBCOs may include faith-based and community organizations, minority-led or immigrant-led non-profit or community development organizations and/or other small non-profit organizations.

This grant will build upon successful ETA grants from program years (PY) 2001 to 2004 that focused on the use of intermediaries and WIBs to build partnerships between FBCOs and local One-Stop systems. The WIB will develop and implement an 18-month project to encourage the formation of long-term contractual and non-contractual partnerships with FBCOs that meet an unmet community need related to hard-to-serve populations (e.g., ex-offenders, limited-English, welfare-to work, etc.).

This investment supports and complements the President's High-Growth Job Training Initiative. The foundation of this initiative is the creation of partnerships to work collaboratively in the development of solutions to the human resource challenges facing our growth industries, while developing maximum access for American workers to gain the competencies they need to obtain good jobs. These partnerships include the public workforce system, business and industry, education and training providers and economic development principals. ETA is investing in demonstration projects in twelve high growth/high demand sectors that include advanced manufacturing, automotive services, biotechnology, construction, energy, financial services, geospatial technology, healthcare, hospitality, information technology (IT) & IT business-related services, retail, and transportation. This solicitation is designed to extend the partnership invitation to FBCOs through the direct involvement of our nation's Workforce Investment Boards.

This grant also complements ETA's ongoing sectoral employment research and evaluations—i.e., identifying workforce needs and opportunities within a local or regional industry or cross-industry occupational group while retaining a focus on economic performance and competitiveness. FBCOs can discharge a significant community role in assisting Boards by bringing new entrants to the job market that can be trained and equipped to meet emerging and evolving industry needs. Each applicant Board will identify up to three businesses or industry sectors to collaborate with the Board and FBCOs within the local One-Stop system to provide jobs for qualified employees from the identified geographic areas.

DATES: The closing date for receipt of applications under this announcement is May 4, 2005. Applications must be received at the address below no later than 5 p.m. (eastern time). Application and submission information is explained in detail in section IV of this SGA.

Authorities: These grants are made under the following authorities:

• The Workforce Investment Act of 1998 (WIA or the Act) (Pub. L. 105-220, 29 U.S.C. 2801 et seq.)

• The WIA Final Rule, 20 CFR parts 652, 660-671 (65 FR 49294) (August 11, 2000);

• Executive Order 13198; “Rallying the Armies of Compassion”

• Training and Employment Guidance Letter 17-01 (“Incorporating and Utilizing Grassroots, Community-Based Organizations Including Faith-Based Organizations in Workforce Investment Activities and Programs”)

• Executive Order 13279; “Equal Protection of the Laws for Faith-Based and Community Organizations.”

SUPPLEMENTARY INFORMATION:

I. Funding Opportunity Description

1. Overview of ETA and CFBCI Initiatives

DOL CFBCI works to remove administrative and regulatory barriers that would prevent FBCOs from competing equally for federal dollars. In addition, CFBCI develops innovative programs to foster partnerships between DOL-funded programs and FBCOs. CFBCI educates organizations about local opportunities to collaborate with the workforce development system and about opportunities to participate in national grant programs. CFBCI also works with local government officials and administrators to integrate FBCOs into the strategic planning and service delivery processes of local Workforce Investment Boards.

Since 2001, CFBCI has worked with ETA to provide $29.6 million in grants to assist states, intermediary organizations, workforce investment boards, and grassroots groups in creating partnerships between FBCOs and the One-Stop Career Center System. In addition to grants, CFBCI has undertaken technical assistance activities that are designed to help FBCOs access and partner with the $15 billion state and local workforce development system. Begun in Memphis, Tennessee, and Milwaukee, Wisconsin, the Touching Lives and Communities Pilot Program provided in-depth technical assistance to local alliances of FBCOs, elected officials and workforce development boards to remove barriers and foster partnerships at the local level. The report on this effort, Experiences from the Field: Fostering Workforce Development Partnerships with Faith-Based and Community Organizations, serves as the basis for a nation-wide effort to encourage partnerships between FBCOs and Workforce Investment Boards called the Touching Lives and Communities Technical Assistance Program (TLC-TAP). Additionally, CFBCI produced Bridging the Gap: Meeting the Challenges of Universal Access Through Faith-Based and Community Partnerships, which highlights strategies by 2002 state and intermediary grantees to help job seekers access services through grassroots FBCO's. CFBCI also has created Empowering New Partnerships: Faith-Based and Community Initiatives in the Workforce System, which provides an overview of basic strategies for engaging grassroots organizations in the workforce system.

Through TLC-TAP, CFBCI and ETA are creating a peer-to-peer learning network, publishing tool kits and other resource materials, and hosting national conference calls on topics related to the initiative. For more resources, please visit the CFBCI Web site, http://www.dol.gov/cfbci as well as the TLC-TAP Web site, http://www.dol-tlc.org.

2. Project Objectives

The grantee(s) will implement, in partnership with USDOL, a project that will:

• Serve a targeted area(s)/census tract(s) that has a high poverty rate. The grantee may focus on a specific population within that area (e.g. ex-offenders, youth, people with disabilities, people who are victims of violent and domestic crime, people with limited English proficiency, homeless veterans, etc.);

• Serve targeted industries and employers by helping them find employees in the targeted area(s) or increase wages and job responsibilities for employees from the targeted area(s);

• Build relationships among the One-Stop Career Center staff, WIB, businesses, and grassroots FBCOs within the targeted area and community at large in order to increase referrals and the effectiveness of referrals among organizations;

• Help targeted individuals prepare for, sustain or advance in employment by funding grassroots FBCOs in the targeted area(s) and increasing their collaboration with the One-Stop Career Center system;

• Build the performance and administrative capabilities of FBCOs to deliver programs, administer funding, collect performance data, and identify potential One-Stop Career Center contracting opportunities; and

• Measurably increase the performance of One-Stop Career Centers with the targeted population through developing sustainable relationships with FBCOs.

In order to accomplish this, WIBs must obtain commitments from up to three businesses/business associations, use statistical data to identify a specific area(s)/census tract(s) to serve, demonstrate that area's need, conduct outreach and create/maintain a resource directory of grassroots FBCOs in targeted area (this may involve increasing existing resource directory), and subaward 70 percent of the funding to grassroots, non-profit FBCOs.

Through this grant investment of $5 million, the Department intends to help approximately 2,000 people obtain or advance in employment.

II. Award Information

1. Funding Availability and Period of Performance

ETA has identified $5 million from the FY 2005 appropriation for One Stop/America's Labor Market Information System. ETA expects to award approximately 10 to 20 grants based on the rating of applications and other factors, which may include urban/rural and geographical balance. The grant amount for each WIB is expected to range between $300,000 and $500,000. The period of performance will be 18 months from the date of execution by the Department.

2. Anticipated Announcement and Award Dates

Announcement of this award is expected to occur by July 1, 2005.

III. Eligibility Information

1. Eligible Applicants

Workforce Investment Boards (WIB) from all geographic areas are eligible to apply for these funds including:

• The state Workforce Investment Board (in states that contain only one WIB);

• A local Workforce Investment Board; or

• Consortia of local (including rural) Workforce Investment Boards.

2. Cost Sharing or Matching

This solicitation does not require grantees to share costs or provide matching funds.

3. Other Eligibility Requirements

Veterans Priority: In addition, this program is subject to the provisions of the “Jobs for Veterans Act”, Pub. L. 107-288, which provides priority of services to veterans and in some cases their spouses in all Department of Labor funded job training programs. Please note that, to obtain priority of service, a veteran or spouse must meet the program's eligibility requirements. The directive providing policy guidance on veterans' priority is available at http://www.doleta.gov/programs/VETs/.

IV. Application and Submission Information

1. Address To Request Application Package

This SGA contains all of the information and forms needed to apply for grant funding.

2. Content and Form of Application Submission

Applicants must submit an original signed application and three hard copies. The proposal consists of two (2) separate and distinct parts, Part I and II. Both parts must be included in a complete application. Applications that fail to adhere to the instructions in this section will be considered non-responsive and will not be considered.

Part I of the proposal is the Financial Proposal and must include the following two items:

• The Standard Form (SF) 424, “Application for Federal Assistance” (Appendix A) (available at http://www.whitehouse.gov/omb/grants/sf424.pdf.) Upon confirmation of an award, the individual signing the SF-424 on behalf of the applicant shall represent the responsible entity. All applications for Federal grant and funding opportunities are required to have a Dun and Bradstreet (DUNS) number. See OMB Notice of Final Policy Issuance, 68 FR 38402 (June 27, 2003). Applicants must supply their DUNS number in item #5 of the SF-424 (Rev. 9-2003). The DUNS number is easy to obtain and there is no charge. To obtain a DUNS number, access http://www.dunandbradstreet.com or call 1-866-705-5711.

• The Budget Information Form SF 424A (Appendix B) (available at http://www.whitehouse.gov/omb/grants/sf424a.pdf.) In addition to preparing the Budget Information form, the applicant must provide a concise narrative explanation to support the request.

Part II of the application is the Technical Proposal, which demonstrates the applicant's capabilities to plan and implement a demonstration project in accordance with the provisions of this solicitation. The Technical Proposal is limited to ten (10) double-spaced single-sided, 8.5 inch x 11 inch pages with 12 point text font and one-inch margins.

The only attachments permitted will be the following.

• Commitments from the identified businesses or business associations.

• A letter of endorsement from the state workforce agency and from an elected official who has appointment authority for the WIB.

• A timeline for the tasks and activities beginning July 1, 2005.

The attachments will not count against the allowable maximum page totals. No cost data or reference to prices should be included in the Technical Proposal.

3. Submission Dates and Times

The closing date for receipt of applications under this announcement is May 4, 2005. Applications must be received at the address below no later than 5 p.m. (eastern time). Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: Eric Luetkenhaus, Reference SGA/DFA PY04-04, 200 Constitution Avenue, NW., Room N-4438, Washington, DC 20210. Applicants are advised that mail delivery in the Washington area may be delayed due to mail decontamination procedures. Hand delivered proposals will be received at the above address. All overnight mail will be considered to be hand-delivered and must be received at the designated place by the specified closing date.

Applicants may apply online at http://www.grants.gov. Any application received after the deadline will not be accepted. For applicants submitting electronic applications via Grants.gov, it is strongly recommended that you immediately initiate and complete the “Get Started” steps to register with Grants.gov at http://www.grants.gov/GetStarted. These steps will probably take multiple days to complete which should be factored into your plans for electronic application submission in order to avoid facing unexpected delays that could result in the rejection of your application.

Late Applications: Any application received after the exact date and time specified for receipt at the office designated in this notice will not be considered, unless it is received before awards are made and it (a) was sent by U.S. Postal Service registered or certified mail not later than the fifth calendar day before the date specified for receipt of applications (e.g., an application required to be received by the 20th of the month must be post marked by the 15th of that month) or (b) was sent by U.S. Postal Service Express Mail or Online to addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

4. Funding Restrictions

The WIB must award at least 70 percent of the funding through subawards to eligible grassroots FBCOs. For purposes of this announcement, eligible grassroots FBCOs must be non-profits, which:

• Have social services as a major part of their mission;

• Are headquartered in the local community to which they provide these services;

• (a) have a social services budget of $350,000 or less, or (b) have six or fewer full-time equivalent employees.

With its remaining 30 percent of grant funds, the WIB may choose also to contract with a non-profit intermediary organization or hire staff members from the targeted community who will be able to help the WIB conduct outreach to grassroots organizations and provide technical assistance to the subawardees.

Neutral, non-religious criteria that neither favor nor disfavor religion will be employed in the selection of grant recipients and must be employed by grantees in the selection of sub-recipients.

Additionally, the government is prohibited from providing direct financial assistance for inherently religious activity*. Therefore, as a general rule, subawards may not be used for religious instruction, worship, prayer, proselytizing or other inherently religious activities and participation in such activities must be voluntary. (If, however, an organization receives financial assistance as a result of the choice of a beneficiary, such as through a voucher, the organization may integrate religion throughout its program.)

*In this context, the term financial assistance that is provided directly by a government entity or an intermediate organization, as opposed to financial assistance that an organization receives as the result of the genuine and independent private choice of a beneficiary. In other contexts, the term ‘direct’ financial assistance may be used to refer to financial assistance that an organization receives directly from the Federal government (also known as “discretionary” assistance), as opposed to assistance that it receives from a State or Local government (also known as “indirect” or “block” grant assistance). The term “direct” has the former meaning throughout this SGA.

Administrative Costs. The primary use of the grant funds should be used to support the actual project. Therefore, applicants receiving grant funds under this solicitation may not use more than 10 percent of the amount of the grant for administrative costs associated with the project. Administrative costs are defined at 20 CFR 667.220.

5. Other Submission Requirements

Withdrawal of Applications. Applications may be withdrawn by written notice or telegram (including mailgram) received at any time before an award is made. Applications may be withdrawn in person by the applicant or by an authorized representative thereof, if the representative's identify is made known and the representative signs a receipt for the proposal.

V. Application Review Information

1. Rating Criteria

This section identifies what should be included in the technical proposal narrative and describes the criteria that will be used to evaluate the proposals.

A. Technical Approach (Description of the Proposed Plan and Activities of WIB and Its Subawardees)—50 Points

This section of the narrative provides the applicant's strategy for creating new sustainable, financial and non-financial relationships with grassroots FBCOs and other partners that help individuals in targeted area(s) transition to industries/careers that are in demand locally and can offer strong career opportunities. This section of the narrative must describe the specific needs of the population in the targeted area(s) that the WIB and grassroots FBCO partnerships will address. This population may include: low-income working individuals, individuals transitioning from public assistance, individuals with disabilities, victims of crime, ex-offenders, individuals with Limited English Proficiency, homeless veterans and other hard-to-serve populations.

The WIB must award at least 70 percent of total funds through subawards to grassroots FBCOs that can help the WIB meet the unmet community need. The WIB may work with non-profit intermediary organizations and/or hire staff that has strong relationships with grassroots FBCOs from the remaining 30 percent of its grant funds. The proposal's narrative must demonstrate the following.

• Define target area(s) (census tract(s)) and explain why this area needs the services provided through the grant.

• Describe strategy for conducting outreach to FBCOs and documenting existing FBCO programs, key organizations, and services in the identified area(s) that help hard-to-serve individuals prepare for and sustain employment. Include plans for creating a resource directory and/or maintaining non-financial partnerships non-subawardee FBCOs. If applicable, include how your WIB will work with intermediary organizations that have existing networks of grassroots FBCOs and/or how the WIB will hire staff familiar with that neighborhood.

• Identify up to three businesses or business sectors to collaborate with the WIB, One-Stop Career Center System, FBCOs, and other partners; provide jobs with long-term career opportunities; and hire qualified employees from the identified disadvantaged area(s). The proposal must include letters of commitment from those businesses as attachments. Businesses may include corporations or small-medium sized businesses, which are independently owned and operated and not dominant in their field of operation.

• Describe the methodology to be used for competitively selecting grassroots FBCO subawardees within the first two quarters of the grant period. Include plans for how the WIB will train those eligible organizations to apply for a subaward and ensure that those organizations understand the Establishment clause and other guidelines for using federal dollars and implementing programs.

• Describe the resources and services the WIB will solicit from the subawardees to help individuals prepare for, enter, and advance in employment. Resources and services can include satellite One-Stop locations in the FBCO facility, life skills, mentoring, adult literacy, employability skill training, on-the-job training, incumbent worker training, and customized training. Description may include if applicable how the FBCO will be used for training individuals for the specified businesses/occupations.

• Describe how responsibilities for grant program will be structured including responsibilities of WIB staff, One-Stop Career Center staff and new hires from the intermediary organization or representatives from the targeted community. Include a description of who will be responsible for providing technical assistance to the subawardees and who will be responsible for maintaining relationships with the subawardees.

• Submit a timeline for the tasks and activities beginning July 1, 2005.

Scoring of this criterion will be based on the following.

• The applicant has clearly defined an area(s) and demonstrated the need of targeted populations/ in targeted area. (5 Points)

• The businesses engaged through this grant will provide career ladders for individuals to be served and the letters of commitment are attached. (5 Points)

• The applicant has demonstrated that the WIB/One-Stop Career Center will create effective partnerships with FBCOs in targeted areas. The applicant has demonstrated that it will effectively conduct outreach, build relationships, collect performance data, and provide technical assistance to both funded and non-funded grassroots organizations, including faith-based organizations, congregations, minority or immigrant-led community development organizations, and other non-profits. To receive any of the points for this part of the criterion, an applicant must demonstrate that 70 percent of its grant award will be used for subawards to grassroots FBCOs. (25 Points)

• The methodology for subawards is achievable within the first two quarters of the grant. (5 Points)

• The timeline and narrative demonstrate that the service delivery strategy (services being subawarded) and relationships between the FBCOs and the Workforce system is an appropriate and achievable way to transition people from the targeted area(s) into employment. (10 Points)

B. Past Performance—10 Points

This section of the narrative must describe how the WIB has demonstrated successfully in the past and the ability to form working partnerships with FBCOs and other partners. The narrative must include the following.

• Describe any current relationships, formal (through MOUs) and informal, with FBCOs. Describe interactions with FBCOs both in terms of financial (training and placement) and non-financial (shared spaces and referrals).

• Describe relevant history of the WIB in working with small organizations. Include past experience in developing technical assistance and developing other organizations' capabilities for social service delivery, competing for grants, managing grants, and conducting information campaigns.

• Identify any current barriers that exist that have prevented financial partnerships and non-financial partnership between grassroots FBCOs in targeted area and the One-Stop system or the Workforce Investment Board. Please describe what actions will be taken to address or remove those barriers in order to allow for sustainable partnerships. In the program plan, describe the strategy for including FBCOs in leadership and strategic planning roles in the WIB during and after the life of the grant.

• Describe the recent history of the WIB in working with specific businesses or business sectors to provide employment opportunities for qualified individuals.

Scoring of this criterion will be based on the following.

• The Department will evaluate the narrative based upon the WIB's ability to identify and plan to address barriers to partnership as well as the record of achievement/commitment in bridging any gaps with non-traditional grassroots partners independent of grant money. (10 Points)

C. Sustainability—10 Points

The narrative must describe how the WIB will address issues of sustainability past the life of the DOL grant.

• Describe how the project will be integrated with other WIB initiatives and how the WIB will demonstrate plans for sustainability after the DOL funding ends. Description can include commitments of other resources either within the WIB (e.g., through training dollars, WIB staff committed to the project, in-kind support, outreach plans, surplus computer hardware and software, etc.) or through an outside source (e.g., private partners, foundation, etc).

• Describe efforts, if any, to encourage the leveraging of state funds to support the project.

• Describe, if any, WIB plans to supplement this grant funding with funds from other grant allocations.

Scoring of this criterion will be based on the following.

• Based on the level of current commitments to FBCOs or FBCO-related projects. (4 Points)

• The ability for the applicant to demonstrate that the project has the potential to have a long-term impact on the targeted community and seems to be grounded in a long-term commitment by the WIB to build relationships with FBCOs. (6 Points)

D. Evaluation and Technical Assistance—30 Points

The narrative must define specifically how the WIB will determine the grant's success based on USDOL guidelines. The narrative must include how the WIB plans to contribute proportionately to the broad goals of the grant investment of helping 2,000 individuals obtain or advance employment (approximately 200 individuals per WIB). The narrative must include the following.

• Define the measurable outcomes and other goals for both the WIB and its subawardees in executing the proposed tasks and activities. In addition to any goals the WIB defines, the WIB must include goals for how many individuals will be served; how many will enter employment; be retained over a six month period; and have an increase in wages through this grant investment. WIB is free to develop additional goals as appropriate to the project.

• Describe the methodology for how the WIB will train the subawardees to track and report outputs, outcomes and demographics for those assisted under the subawards and what responsibilities for tracking will be shared by the One-Stop Career Centers.

• Define how the WIB will provide technical assistance and demonstrate how it will determine its overall success in improving the posture of the subawardees in increasing their performance and administrative capabilities to remain active in local workforce development and compete for future funding opportunities.

Scoring of this criterion will be based on the following.

• The number of individuals the WIB plans to serve is appropriate and achievable within the grant period and represents an effective use of this financial investment. The narrative describes how the WIB's efforts will contribute to the overall goal of helping 2,000 individuals obtain or advance in employment through this investment. The number the WIB is transitioning/helping advance into employment should be proportional to the amount of money requested. (10 Points)

• The WIB's ability to demonstrate that its technical assistance will ensure that the subawardees have an increased performance, administrative capacity and ability to compete for additional funding opportunities. (8 Points).

• The methodology for working with the subawardees to ensure program success, and effectively track and report outputs, outcomes and demographics is achievable and measurable. (12 Points)

2. Review and Selection Process

A technical review panel will make a careful evaluation of applications against the rating criteria. The review panel recommendations are advisory. The ETA Grant Officer will fully consider the panel recommendations and take into account geographic balance to ensure the most advantageous award of these funds to accomplish the system-building purposes outlined in this SGA. The grant officer may consider any information that comes to his or her attention. The grant officer reserves the right to award without negotiations. Should a grant be awarded without negotiations, the award will be based on the applicant's signature which constitutes a binding offer.

VI. Award Administration Information

1. Award Notices

All award notifications will be posted on the USDOL-ETA homepage at http://www.doleta.gov

2. Administrative and National Policy Requirements

All grantees, including faith-based organizations will be subject to all applicable Federal laws (including provisions in appropriations law), regulations, and the applicable Office of Management and Budget (OMB) Circulars. The applicants selected under the SGA will be subject to the following administrative standards and provisions, if applicable.

a. Workforce Investment Boards—20 Code of Federal Regulations (CFR) Part 667.220 (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—Federal Acquisition Regulation (FAR)—48 CFR Part 31 (Cost Principles), and 29 CFR Part 95 (Administrative Requirements).

f. All entities must comply with 29 CFR Parts 93 and 98, and, where applicable, 29 CFR Parts 96 and 99.

g. In accordance with Section 18 of the Lobbying Disclosure Act of 1995, Pub. L. 104-65 (2 U.S.C. 1611) non-profit entities incorporated under Internal Revenue Code section 501(c)(4) that engage in lobbying activities will not be eligible for the receipt of Federal funds and grants.

Note: Except as specifically provided in this Notice, USDOL-ETA's acceptance of a proposal and an award of Federal funds to sponsor any program(s) does not provide a waiver of any grant requirements and/or procedures. For example, the OMB Circulars require that an entity's procurement procedures must ensure that all procurement transactions are conducted, as much as practical, to provide open and free competition. If a proposal identifies a specific entity to provide services, the USDOL-ETA's award does not provide the justification or basis to sole-source the procurement, i.e., avoid competition, unless the activity is regarded as the primary work of an official partner to the application.

3. Reporting Requirements

The grantee is required to provide the reports and documents listed below:

Quarterly Financial Reports. A Quarterly Financial Status Report (SF-269) is required until such time as all funds have been expended or the period of availability has expired. Quarterly reports are due 30 days after the end of each calendar year quarter. Grantee must use ETA's On-line Electronic Reporting System.

Progress Reports. The grantee must submit a quarterly financial and narrative progress report to the Federal Project Officer within 30 days following each quarter. Copies are to be submitted electronically providing a detailed account of activities undertaken during that quarter. Reports must include the following information for the WIB and their subawardees.

• The number of participants served per quarter (new and active), noting the specific services the grantee is providing in this project.

• The number of One-Stop Career Center clients referred to the subawardee.

• Number of subawardee participants referred to the One-Stop.

• The total number of volunteer hours committed to the grant program.

• Number of participants placed in post-secondary education or advanced training.

• Number of participants placed in a job.

• Average hourly wages at the time of job placement.

• Of the participants placed in a job since the beginning of the grant, how many were continuously employed for 6 months.

• Of the participants placed in a job since the beginning of the grant, how many were re-employed in the last 6 months.

• List other goals submitted with the grant application or additional goals developed for the program.

• List demographic Information.

VII. Agency Contacts

Any questions regarding this SGA should be faxed to Eric Luetkenhaus, Grant Officer, Division of Federal Assistance, fax number (202) 693-2705. (This is not a toll-free number.) You must specifically address your fax to the attention of Eric Luetkenhaus and should include SGA/DFA PY-04-04, a contact name, fax and phone number.

FOR FURTHER INFORMATION CONTACT: Eric Luetkenhaus, Grant Officer, Division of Federal Assistance, on (202) 693-3109. (This is not a toll-free number.) This announcement is also being made available on the USDOL-ETA Web site at http://www.doleta.gov/sga/sga.cfm and http://www.grants.gov.

VIII. Other Information

The Department of Labor maintains a number of Web-based resources that may be of assistance to applicants. The Web page for the Department's Center for Faith-Based & Community Initiatives (http://www.dol.gov/cfbci) is a valuable source of background on this initiative. Training and Employment Notice (T.E.N.) 15-03 (wdr.doleta.gov/directives/attach/TEN15-03.html) includes information about promising practices for engaging faith-based and community organizations in the workforce system based on successful grantees from PY 2002. America's Service Locator (http://www.servicelocator.org) provides a directory of our nation's One-Stop Career Centers. The DOL Employment and Training Administration has a Web page (http://www.doleta.gov/regions), which contains contact information for the State and local Workforce Investment boards. Applicants are encouraged to review “Understanding the Department of Labor Solicitation for Grant Applications and How to Write an Effective Proposal” (www/dol.gov/cfbci/sgabrochure.htm). For a basic understanding of the grants process and basic responsibilities of receiving Federal grant support, please see “Guidance for Faith-Based and Community Organizations on Partnering with the Federal Government” (http://www.fbci.gov).

Signed at Washington, DC, this 22nd day of March, 2005.
Eric D. Luetkenhaus,
Grant Officer, Employment and Training Administration.

Appendix A: SF-424 Application for Federal Assistance

Appendix B: SF-424A Budget Information Form

Appendix C: OMB Survey N. 1890-0014: Survey on Ensuring Equal

Opportunity for Applicants

[FR Doc. 05-6022 Filed 3-25-05; 8:45 am]

BILLING CODE 4510-30-P